DEPARTMENT OF JUSTICE

Notice of Lodging of Settlement Agreement Under the Comprehensive Environmental Response, Compensation, and Liability Act; Resource Conservation and Recovery Act; Clean Water Act; Oil Pollution Act; and Chapter 11 of the United States Bankruptcy Code

Notice is hereby given that on May 20, 2011, a proposed Settlement Agreement (“Agreement”) in In re Caribbean Petroleum Corp., et al., No. 10-12553(KG), was lodged with the United States Bankruptcy Court for the District of Delaware. The Agreement was entered into by the United States, on behalf of the United States Environmental Protection Agency (“EPA”) and the United States Coast Guard (“USCG”), and the three debtors in the above-referenced bankruptcy proceeding: Caribbean Petroleum Corporation, Caribbean Petroleum Refining L.P., and Gulf Petroleum Refining (Puerto Rico) Corporation (the “Debtors”). The Agreement relates to liabilities of the Debtors under the Comprehensive Environmental Response, Compensation, and Liability Act of 1980, 42 U.S.C. 9601 et seq. (“CERCLA”), the Resource Conservation and Recovery Act, 42 U.S.C. 6901 et seq. (“RCRA”), the Clean Water Act (“CWA”), 33 U.S.C. 1251 et seq., and the Oil Pollution Act (“OPA”), 33 U.S.C. 2701 et seq.

The Agreement provides as follows with respect to claims for costs for response actions that were taken, and claims for penalties for civil violations of law that occurred, prior to August 12, 2010 (the “Petition Date”): With respect to USCG's claims under Section 1002(a)(b)(1) of OPA, 33 U.S.C. 2702(a)(b)(1), related to costs for cleanup actions that were taken prior to the Petition Date at the Debtors' former petroleum distribution terminal located in Bayamón, Puerto Rico (the “Facility”), the United States, on behalf of USCG, will have an allowed general unsecured claim in the amount of $5,776,301; with respect to EPA's claims under Section 107(a) of CERCLA, 42 U.S.C. 9707(a), related to costs for cleanup actions that were taken prior to the Petition Date at the Facility, the United States, on behalf of EPA, will have an allowed general unsecured claim of $1,013,794; with respect to EPA's claims under Section 311(b)(7)(A) of the CWA, 33 U.S.C. 1321(b)(7)(A), for civil penalties for violations that occurred prior to the Petition Date related to oil discharges resulting from the October 23, 2009 explosion at the Facility and its aftermath, the United States, on behalf of EPA, will have an allowed general unsecured claim of $8,000,000; with respect to EPA's claims under Section 311(b)(7)(B) of the CWA, 33 U.S.C. 1321(b)(7)(B), for civil penalties for violations of law occurring prior to the Petition Date related to the failure of certain Debtors to comply with an Order issued by EPA under the CWA on February 19, 2010 (“CWA Order”), the United States, on behalf of EPA, will have an allowed general unsecured claim of $3,557,385; and with respect to EPA's claim under Section 9006(d)(2) of RCRA, 42 U.S.C. 6991e(d)(2), for civil penalties for violations of Underground Storage Tank Regulations occurring prior to the Petition Date at certain of the gasoline service stations owned or operated by the Debtors, the United States, on behalf of EPA, will have an allowed general unsecured claim of $377,650.

The Agreement provides as follows with respect to costs for removal or response actions that were taken, and claims for penalties for violations of law that occurred, during the period of time after the Petition Date: with respect to USCG's demand under Section 1002(a)(b)(1) of OPA, 33 U.S.C. 2702(a)(b)(1), related to removal costs at the Facility after the Petition Date, the United States, on behalf of USCG, will have an allowed administrative expense claim of $4,074,164; with respect to EPA's demand under Section 107(a) of CERCLA, 42 U.S.C. 9707(a), related to response costs at the Facility after the Petition Date, the United States, on behalf of EPA, will have an allowed administrative expense claim of $2,625,836; with respect to EPA's demand under Section 311(b)(7)(B) of the CWA, 33 U.S.C. 1321(b)(7)(B), for civil penalties for the failure of certain Debtors to comply with the CWA Order during the period of time after the Petition Date, the United States, on behalf of EPA, will have an allowed administrative expense claim of $1,404,241; and with respect to EPA's demand under Section 9006(d)(2) of RCRA, 42 U.S.C. 6991e(d)(2), for civil penalties for violations of Underground Storage Tank Regulations occurring after the Petition Date, the United States, on behalf of EPA, will have an allowed administrative expense claim of $95,759.

Under the Agreement, USCG covenants not to file a civil action or to take any administrative or other civil action against the Debtors to recover its cleanup costs with respect to the Facility pursuant to Section 1002(a) of OPA, 33 U.S.C. 2702(a). EPA covenants not to file a civil action or to take any administrative or other civil action against the Debtors: (i) To recover response costs or obtain injunctive relief with respect to the Facility pursuant to Sections 106 or 107(a) of CERCLA, 42 U.S.C. 9606 or 9607(a), or Section 7003 of RCRA, 42 U.S.C. 6973; (ii) to obtain civil penalties pursuant to Section 311(b)(7)(A) of the CWA, 33 U.S.C. 1321(b)(7)(A), with respect to the oil discharge violations related to the Facility specifically alleged in the proofs of claim filed by EPA and USCG on February 7, 2011 (“EPA/USCG POCs”), (iii) to obtain civil penalties pursuant to Section 311(b)(7)(B) of the CWA, 33 U.S.C. 1321(b)(7)(B), with respect to the CWA Order violations specifically alleged in the EPA/USCG POCs; or (iv) to obtain civil penalties pursuant to Section 9006(d)(2) of RCRA, 42 U.S.C. 6991e(d)(2), with respect to the Underground Storage Tank violations specifically alleged in the EPA/USCG POCs. The Agreement further provides for resolution of outstanding obligations of the Debtors to perform work or pay penalties under the CWA Order and an October 12, 1995, RCRA Administrative Order on Consent.

For a period of seven days from the date of this publication, the Department of Justice will receive and consider comments relating to the Agreement. All comments must be received by the Department of Justice within this seven day period. Comments should be addressed to the Assistant Attorney General, Environment and Natural Resources Division, and either e-mailed to pubcomment-ees.enrd@usdoj.gov or mailed to P.O. Box 7611, U.S. Department of Justice, Washington, DC 20044, and should refer to In re Caribbean Petroleum Corp., et al., No. 10-12553(KG) (Bankr. D. Del.) and D.J. Ref. No. 90-11-3-10100. A copy of any comment should be sent to Donald G. Frankel, Senior Counsel, Department of Justice, Environmental Enforcement Section, One Gateway Center, Suite 616, Newton, MA 02458, or e-mailed to donald.frankel@usdoj.gov. Commenters may request an opportunity for a public meeting, in accordance with Section 7003(d) of RCRA, 42 U.S.C. 6973(d).

The Agreement may be examined at the Office of the United States Attorney, District of Delaware, 1201 Market Street, Suite 1100, Wilmington, Delaware (contact Ellen Slights at 302-573-6277). During the public comment period, the Agreement may also be examined on the following Department of Justice Web site, http://www.usdoj.gov/enrd/Consent_Decrees.html. A copy of the Agreement may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy of the Agreement from the Consent Decree Library, please enclose a check in the amount of $3.50 (25 cents per page reproduction cost) payable to the U.S. Treasury (if the request is by fax or e-mail, forward a check to the Consent Decree library at the address stated above).

Ronald G. Gluck,
Assistant Section Chief, Environmental Enforcement Section, Environment and Natural Resources Division.

[FR Doc. 2011-13051 Filed 5-24-11; 8:45 am]

BILLING CODE 4410-15-P